NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on September 12-14, 2002, in Conference Room T-2B3, 11545 Rockville Pike, Rockville, Maryland. The date of this meeting was previously published in the Federal Register on Monday, November 26, 2001 (66 FR 59034).

Thursday, September 12, 2002

8:30 a.m.—8:35 a.m.: Opening Statement by the Acting ACRS Chairman (Closed)—The ACRS Chairman will make opening remarks regarding the Naval Reactors Virginia Class Nuclear Propulsion Plant Submarine Design. [This session will be held in the NRC auditorium]

8:35 a.m.-11:45 a.m.: DOE/DOD Naval Reactors Virginia Class Nuclear Propulsion Plant Submarine Design (Closed)—The Committee will hear presentations by and hold discussions with representatives of the Department of Energy (DOE)/Department of Defense (DOD) Naval Reactors Organization and the NRC staff regarding the Virginia Class Nuclear Propulsion Plant Submarine Design. [This session will be held in the NRC auditorium]

[Note: The above two sessions will be closed to discuss classified information applicable to this matter.]

1 p.m.-1:05 p.m.: Opening Remarks by the ACRS Chairman (Open)—The ACRS Chairman will make opening remarks regarding the conduct of the meeting.

1:05 p.m.-2:30 p.m.: Human Reliability Analysis Research Plan (Open)—The Committee will hear presentations by and hold discussions with representatives of the NRC staff regarding the Human Reliability Analysis Research Plan and related matters.

2:45 p.m.-4:15 p.m.: Proposed Resolution of Generic Safety Issue-185, “Control of Recriticality Following Small-Break LOCAs in PWRs” (Open)—The Committee will hear presentations by and hold discussions with representatives of the NRC staff regarding the proposed recommendations by the Office of Nuclear Regulatory Research for resolving Generic Safety Issue-185.

4:30 p.m.—5:00 p.m.: Subcommittee Report Regarding D. C. Cook Switchyard Fire (Open)—Report by the Chairman of the ACRS Subcommittee on Plant Operations regarding the switchyard fire event that occurred at the D. C. Cook Nuclear Power Plant on June 12, 2002.

5 p.m.-5:30 p.m.: Subcommittee Report Regarding the Reactor Oversight Process (Open)—Report by the Chairman of the ACRS Subcommittee on Plant Operations regarding matters discussed at the September 9, 2002 Subcommittee meeting.

5:30 p.m.-7:00 p.m.: Proposed ACRS Reports (Open/Closed)—The Committee will discuss proposed ACRS reports on matters considered during this meeting. [Discussion of the report on Virginia Class Nuclear Propulsion Plant Submarine Design, which will be closed to the public, will be held in Room T-8E8.]

Friday, September 13, 2002

8:30 a.m.-8:35 a.m.: Opening Remarks by the ACRS Chairman (Open)—The ACRS Chairman will make opening remarks regarding the conduct of the meeting.

8:35 a.m.—10:45 a.m.: Proposed 10 CFR 50.69, Draft Regulatory Guide DG-1121, and NEI Document NEI 00-04 (Open)—The Committee will hear presentations by and hold discussions with representatives of the NRC staff and Nuclear Energy Institute (NEI) regarding proposed 10 CFR 50.69, “Risk-Informed Categorization and Treatment of Structures, Systems, and Components for Nuclear Power Reactors,” draft Regulatory Guide DG-1121, “Guidelines for Categorizing Structures, Systems, and Components in Nuclear Power Plants According to Their Safety Significance,” and NEI 00-04, “10 CFR 50.69 SSC Categorization Guidelines.”

11 a.m.-12:30 p.m.: Draft Regulatory Guide DG-1120 and Standard Review Plan Section Associated with NRC Code Reviews (Open)-The Committee will hear presentations by and hold discussions with representatives of the NRC staff regarding draft Regulatory Guide DG-1120, “Transient and Accident Analysis Methods,” and draft final Standard Review Plan Section 15.0.2, “Review of Transient and Accident Analysis Methods.”

1:30 p.m.-2 p.m.: Subcommittee Report on Fire Protection (Open)—Report by the Chairman of the ACRS Subcommittee on Fire Protection regarding matters discussed during the September 11, 2002 Subcommittee meeting.

2 p.m.-3 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

3 p.m.-3:15 p.m.: Reconciliation of ACRS Comments and Recommendations (Open)—The Committee will discuss the responses from the NRC Executive Director for Operations (EDO) to comments and recommendations included in recent ACRS reports and letters. The EDO responses are expected to be made available to the Committee prior to the meeting.

3:30 p.m.-7 p.m.: Proposed ACRS Reports(Open/Closed)—The Committee will discuss proposed ACRS reports. [Discussion of the report on Virginia Class Nuclear Propulsion Plant Submarine Design, which will be closed to the public, will be held in Room T-8E8.]

Saturday, September 14, 2002

8:30 a.m.-12 Noon: Proposed ACRS Reports (Open)—The Committee will discuss proposed ACRS reports.

1 p.m.-1:30 p.m.: Miscellaneous (Open)—The Committee will discuss matters related to the conduct of Committee activities and matters and specific issues that were not completed during previous meetings, as time and availability of information permit.

Procedures for the conduct of and participation in ACRS meetings were published in the Federal Register on October 3, 2001 (66 FR 50462). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director if such rescheduling would result in major inconvenience.

In accordance with Subsection 10(d) Pub. L. 92-463, I have determined that it is necessary to close a portion of this meeting noted above to discuss classified information per 5 U.S.C. 552b (c)(1).

Further information regarding topics to be discussed, whether the meeting has been canceled or rescheduled, the Chairman's ruling on requests for the opportunity to present oral statements, and the time allotted therefor can be obtained by contacting Dr. Sher Bahadur, Associate Director for Technical Support (301-415-0138), between 7:30 a.m. and 4:15 p.m., EDT.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment and facilities that they use to establish the videoteleconferencing link. The availability of videoteleconferencing services is not guaranteed.

Dated: August 19, 2002.
Andrew L. Bates,
Advisory Committee Management Officer.

[FR Doc. 02-21521 Filed 8-22-02; 8:45 am]

BILLING CODE 7590-01-P